DEPARTMENT OF DEFENSE

Office of the Secretary

Executive Committee Meeting of the Defense Advisory Committee on Women in the Services (DACOWITS)

AGENCY: Department of Defense, Advisory Committee on Women in the Services.

ACTION: Notice.

SUMMARY: Pursuant to section 10(a), Public Law 92-463, as amended, notice is hereby given of a forthcoming Quarterly Executive Committee Meeting of the Defense Advisory Committee on Women in the Services (DACOWITS). The purpose of the Executive Committee Meeting is to provide transitional training to the incoming 2001 Executive Committee members and an Awards Presentation for the 2000 Executive Committee members. The Requests for Information Review and the Awards presentation hosted by the Secretary of Defense are open to the public. All other portions are for training only and are not open to the public.

DATES: December 4, 2000, 10:00 a.m.-4:00 p.m.

ADDRESSES: SECDEF Conference Room 3E869, The Pentagon, Washington, DC.

FOR FURTHER INFORMATION CONTACT: Lieutenant Colonel Susan E. Kolb, ARNGUS, DACOWITS and Military Women Matters, OASD (Force Management Policy), 4000 Defense Pentagon, Room 3D769, Washington, DC 20301-4000; telephone (703) 697-2122.

SUPPLEMENTARY INFORMATION: Meeting agenda:

Monday, December 4, 2000

Time and Event

10:00 a.m.: Requests for Information Review

1:45 p.m.: Executive Committee Awards Presentation (Secretary of Defense Conference—5C1042, Please be seated by 1:30 p.m.)

Dated: November 6, 2000.
L.M. Bynum,
Alternate Federal Register Liaison, Department of Defense.

[FR Doc. 00-28864 Filed 11-9-00; 8:45 am]

BILLING CODE 5001-10-M